DEPARTMENT OF THE INTERIOR

National Park Service

[NPS-WASO-NAGPRA-NPS0030809; PPWOCRADN0-PCU00RP14.R50000]

Notice of Intent To Repatriate Cultural Items: Oshkosh Public Museum, Oshkosh, WI

AGENCY: National Park Service, Interior.

ACTION: Notice.

SUMMARY: The Oshkosh Public Museum, in consultation with the appropriate Indian Tribes or Native Hawaiian organizations, has determined that the cultural item listed in this notice meets the definition of object of cultural patrimony. Lineal descendants or representatives of any Indian Tribe or Native Hawaiian organization not identified in this notice that wish to claim this cultural item should submit a written request to the Oshkosh Public Museum. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the Oshkosh Public Museum at the address in this notice by October 26, 2020.

ADDRESSES: Emily Rock, Registrar, Oshkosh Public Museum, 1331 Algoma Blvd., Oshkosh, WI 54901, telephone (920) 236-5766, email erock@ci.oshkosh.wi.us.

SUPPLEMENTARY INFORMATION: Notice is here given in accordance with the Native American Graves Protection and Repatriation Act (NAGPRA), 25 U.S.C. 3005, of the intent to repatriate a cultural item under the control of the Oshkosh Public Museum, Oshkosh, WI, that meets the definition of object of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

In 1934, one cultural item was loaned to the Oshkosh Public Museum by Fred McKay, who had obtained it from the Quinney family at an unknown date. As this item was never reclaimed by the lender, in 2002, under the 1993 Wisconsin Act 18 Abandoned Loans procedures, the Oshkosh Public Museum accessioned the item. The object of cultural patrimony is an ornately carved powder horn that belonged to John W. Quinney (1797-1855), Sachem of the Stockbridge-Munsee Tribe from 1852-1855. Quinney was a renowned orator and lobbyist for the Stockbridge Munsee who negotiated with the United States on behalf of his people, and his leadership is credited with helping their Tribe survive difficult times.

According to the Stockbridge Munsee Community, Wisconsin, because of Quinney's importance to the Community, the powder horn is a symbol of the Tribe's cultural identity. Based on the information presented by the Stockbridge Munsee Community, Wisconsin, the Oshkosh Public Museum has determined that the powder horn meets the definition of an object of cultural patrimony.

Determinations Made by the Oshkosh Public Museum

Officials of the Oshkosh Public Museum have determined that:

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the object of cultural patrimony and the Stockbridge Munsee Community, Wisconsin.

Additional Requestors and Disposition

Lineal descendants or representatives of any Indian Tribe or Native Hawaiian organization not identified in this notice that wish to claim this cultural item should submit a written request with information in support of the claim to Emily Rock, Registrar, Oshkosh Public Museum, 1331 Algoma Blvd., Oshkosh, WI 54901, telephone (920) 236-5766, email erock@ci.oshkosh.wi.us, by October 26, 2020. After that date, if no additional claimants have come forward, transfer of control of the object of cultural patrimony to the Stockbridge Munsee Community, Wisconsin may proceed.

The Oshkosh Public Museum is responsible for notifying the Stockbridge Munsee Community, Wisconsin that this notice has been published.

Dated: August 24, 2020.
Melanie O'Brien,
Manager, National NAGPRA Program.

[FR Doc. 2020-21080 Filed 9-23-20; 8:45 am]

BILLING CODE 4312-52-P